DEPARTMENT OF COMMERCE

International Trade Administration

[A-821-801]

Solid Urea From the Russian Federation: Final Results of Antidumping Duty Administrative Review

AGENCY: Import Administration, International Trade Administration, Department of Commerce.

SUMMARY: On June 17, 2011, the Department of Commerce (the Department) published the preliminary results of the administrative review of the antidumping duty order on solid urea from the Russian Federation. The solid urea subject to this review was produced and exported by MCC EuroChem (EuroChem). The period of review (POR) is July 1, 2009, through June 30, 2010.

Based on our analysis of comments received, we have not made any changes in the margin calculation for EuroChem. The final weighted-average dumping margin for EuroChem is listed below in the section entitled “Final Results of the Administrative Review.”

DATES: Effective Date: October 27, 2011.

FOR FURTHER INFORMATION CONTACT: Dustin Ross or Minoo Hatten, AD/CVD Operations, Office 1, Import Administration, International Trade Administration, U.S. Department of Commerce, 14th Street and Constitution Avenue NW., Washington DC 20230; telephone: (202) 482-0747 and (202) 482-1690, respectively.

SUPPLEMENTARY INFORMATION:

Background

On June 17, 2011, the Department published the Preliminary Results of the administrative review of the antidumping duty order on solid urea from the Russian Federation. See Solid Urea From the Russian Federation: Preliminary Results of Antidumping Duty Administrative Review, 76 FR 35405 (June 17, 2011) (Preliminary Results).

On August 9, 2011, we received a case brief from the petitioners ¹ and a letter in lieu of a case brief from EuroChem. On August 18, 2011, we received rebuttal briefs from the petitioners and from EuroChem. There were no requests for a hearing.

¹ The Ad Hoc Committee of Domestic Nitrogen Producers and its individual urea-producing members, CF Industries, Inc., and PCS Nitrogen.

Scope of the Order

The merchandise subject to the antidumping duty order is solid urea, a high-nitrogen content fertilizer which is produced by reacting ammonia with carbon dioxide. The product is currently classified under the Harmonized Tariff Schedule of the United States (HTSUS) item number 3102.10.00.00. Previously such merchandise was classified under item number 480.3000 of the Tariff Schedules of the United States. Although the HTSUS subheading is provided for convenience and customs purposes, the written description of the merchandise is dispositive.

Analysis of Comments Received

All issues raised in the petitioners' case brief and EuroChem's letter in lieu of a case brief are addressed in the Issues and Decision Memorandum which is hereby adopted by this notice. A list of the issues raised is attached to this notice as Appendix I. The Issues and Decision Memorandum is a public document and is on file electronically via Import Administration's Antidumping and Countervailing Duty Centralized Electronic Service System (IA ACCESS). Access to IA ACCESS is available in the Central Records Unit (CRU), room 7046 of the main Department of Commerce building. In addition, a complete version of the Issues and Decision Memorandum can be accessed directly on the Internet at http://www.trade.gov/ia/. The signed Issues and Decision Memorandum and the electronic versions of the Issues and Decision Memorandum are identical in content.

Final Results of the Administrative Review

We determine that the weighted-average margin on solid urea from the Russian Federation produced and exported by EuroChem for the period July 1, 2009, through June 30, 2010, is 1.17 percent.

Assessment Rates

The Department shall determine and U.S. Customs and Border Protection (CBP) shall assess antidumping duties on all appropriate entries. In accordance with 19 CFR 351.212(b)(1), we have calculated an importer-specific assessment rate for EuroChem reflecting these final results of review.

The Department clarified its “automatic assessment” regulation on May 6, 2003. This clarification will apply to entries of subject merchandise during the POR produced by EuroChem for which EuroChem did not know its merchandise was destined for the United States. In such instances, we will instruct CBP to liquidate unreviewed entries of merchandise produced by EuroChem at the all-others rate if there is no rate for the intermediate company(ies) involved in the transaction. For a full discussion of this clarification, see Antidumping and Countervailing Duty Proceedings: Assessment of Antidumping Duties, 68 FR 23954 (May 6, 2003).

The Department intends to issue instructions to CBP 15 days after the publication of these final results of review.

Cash-Deposit Requirements

The following cash-deposit requirements will be effective upon publication for all shipments of the subject merchandise entered, or withdrawn from warehouse, for consumption on or after the publication date of the final results of this review, as provided by section 751(a)(2)(C) of the Tariff Act of 1930, as amended (the Act): (1) The cash-deposit rate for EuroChem will be 1.17 percent; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; (4) the cash-deposit rate for all other manufacturers or exporters will continue to be 64.93 percent, the all-others rate established in the LTFV investigation. See Urea From the Union of Soviet Socialist Republics; Final Determination of Sales at Less Than Fair Value, 52 FR 19557, 19561 (May 26, 1987). Following the break-up of the Soviet Union, the antidumping duty order on solid urea from the Soviet Union was transferred to the individual members of the Commonwealth of Independent States. See Solid Urea From the Union of Soviet Socialist Republics; Transfer of the Antidumping Order on Solid Urea From the Union of Soviet Socialist Republics to the Commonwealth of Independent States and the Baltic States and Opportunity to Comment, 57 FR 28828 (June 29, 1992). The rate established in the LTFV investigation for the Soviet Union was applied to each new independent state, including the Russian Federation. These cash-deposit requirements shall remain in effect until further notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of destruction of APO materials or conversion to judicial protective order is hereby requested. Failure to comply with the regulations and the terms of an APO is a sanctionable violation.

We are issuing and publishing these results in accordance with sections 751(a)(1) and 777(i) of the Act.

Dated: October 17, 2011.
Ronald K. Lorentzen,
Deputy Assistant Secretary for Import Administration.

Appendix

Comment 1: Affiliation of EuroChem's Franchisees

Comment 2: Freight and Transportation Revenue

Comment 3: Imputed Credit Expenses

Comment 4: Publication of Final Results

Comment 5: Zeroing

[FR Doc. 2011-27446 Filed 10-26-11; 8:45 am]

BILLING CODE 3510-DS-P